DEPARTMENT OF HOUSING AND URBAN DEVELOPMENT

[Docket No. FR-5695-N-01]

Request for Comment on the Redesign of the American Housing Survey

AGENCY: Office of the Assistant Secretary for Policy Development and Research, HUD.

ACTION: Notice.

SUMMARY: This notice announces the intent of the Department of Housing and Urban Development (HUD) to redesign the American Housing Survey (AHS) for 2015 and later years. As part of this redesign, HUD is soliciting public comments. HUD is interested in all comments, especially from government policy makers, academic researchers, and AHS data users that specify: (1) Concerns related to redesigning the AHS sample; (2) important content that should be added to the AHS to meet current and future housing data needs; (3) current content that is no longer relevant, or has limited usefulness; and (4) ideas for expanding the dissemination of the AHS data. To aid in the development of public comments, HUD has listed questions that have been posed by AHS survey managers and current AHS users. HUD encourages persons interested in commenting to consider these questions and to propose additional questions or provide additional topics HUD should take into consideration.

DATES: Comments Due Date: April 2, 2013.

ADDRESSES: Interested persons are invited to submit comments regarding this proposal. Comments must refer to the above docket number and title. There are two methods for submitting public comments.

1. Submission of Comments by Mail. Comments may be submitted by mail to Shawn Bucholtz, Director, Housing and Demographic Analysis Division, Office of Policy Development and Research, Department of Housing and Urban Development, 451 7th St. SW., Room 8222, Washington, DC 20410.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling 202-402-5538 (this is not a toll-free number). Individuals with speech or hearing impairments may access this number via TTY by calling the toll-free Federal Relay Service at 800-877-8339. Copies of all comments submitted are available for inspection and downloading at www.regulations.gov.

FOR FURTHER INFORMATION CONTACT: Shawn Bucholtz, Director, Housing and Demographic Analysis Division, Office of Policy, Development and Research, 451 7th Street SW., Room 8222, Washington, DC 20410-0500, telephone number 202-402-5538 (this is not a toll-free number). Hearing or speech-impaired individuals may access this number via TTY by calling the toll-free Federal Relay Service at telephone number 1-800-877-8339.

SUPPLEMENTARY INFORMATION:

A. Background

The American Housing Survey provides a periodic measure of the size and composition of the country's housing inventory. HUD provides all funding and oversight for the AHS. Through an interagency agreement, the Census Bureau provides operational management and field data collection.

The current sample was drawn in 1985, with additions and subtractions to account for new construction, demolitions and conversions. The 2013 AHS will be the final survey administered to the current sample. HUD will draw a new sample for 2015, presenting HUD with an opportunity to redesign the survey to better meet current and future needs.

The current AHS biennially collects data on subjects such as the amount and types of changes in the housing stock, the physical condition of the housing stock, the characteristics of the occupants, housing costs, the persons eligible for and beneficiaries of assisted housing, and the number and characteristics of vacant units. Starting in 2009, the AHS questions were classified into “core” modules and “rotating topical” modules in order to minimize respondent burden and satisfy widening needs for data content. Questions in the core modules are asked in each survey and typically undergo only minor revisions between surveys. Questions in the rotating topical modules are asked on a rotating basis. For instance, questions about potential health and safety hazards and home modifications made to assist occupants living with disabilities that were added to the 2011 AHS will not be included in the 2013 AHS. The 2013 AHS may include questions about neighborhood characteristics, people who had to temporarily move in with other households, ability to travel via public transportation, bicycling, or walking, energy efficiency, and emergency preparedness that were not in the 2011 AHS.

The current AHS sample includes approximately 60,000 housing units that are visited every two years for the purposes of generating national estimates and additional housing units in metropolitan areas that are visited periodically for the purposes of generating metropolitan area estimates. These are referred to as metropolitan area oversamples. In 2011, 29 metropolitan area oversamples were conducted.

HUD uses the AHS data to monitor the interaction among housing needs, demand and supply, as well as changes in housing conditions and costs, to aid in the development of housing policies and the design of housing programs appropriate for different target groups, such as first-time home buyers and the elderly. The AHS data allow HUD to evaluate, monitor, and design HUD programs to improve efficiency and effectiveness. Policy analysts, program managers, budget analysts, and Congressional staff use AHS data to advise executive and legislative branches about housing conditions and the suitability of public policy initiatives. Academic researchers and private organizations use AHS data in efforts of specific interest and concern to their respective communities.

B. AHS Sample Redesign Issues

The current AHS sample design includes a single longitudinal panel. As previously mentioned, some housing units in this single panel are surveyed every two years (for national estimates) and some are surveyed less frequently (for metropolitan area estimates). In 2011, the Census Bureau and HUD published a whitepaper on sample redesign options. This whitepaper evaluated the performance of the current sample design, identified potential problems with the current sample design, and presented options for alternative sample designs. After evaluating the whitepaper, HUD determined that the current single panel sample design was the best option.

Through formal discussions with the Census Bureau and through informal discussions with AHS data users, HUD has identified other sample redesign issues that it has explored or will explore as part of the redesign process. The following is a list of questions already raised concerning the AHS sample redesign:

1. What is the appropriate sample size for generating national estimates, taking into consideration the necessary level of precision required by AHS users?

2. Should the AHS continue to oversample metropolitan areas? If so, how many metropolitan areas should be oversampled, which metropolitan areas should be oversampled, and how large should the sample size be for metropolitan oversamples?

3. What housing unit subgroups should HUD consider oversampling? For instance, in prior years, HUD has oversampled HUD-assisted housing, assisted housing for the elderly, and manufactured housing.

C. AHS Content and Question Redesign Issues

While a good sample design is necessary for a useful survey, the survey's content and questions are the most important features. Relevant content gathered through poorly-designed questions impacts the accuracy of survey results. Irrelevant content gathered though well-designed questions may not be useful. For a survey to maximize its usefulness the content must be relevant and it must be gathered through properly designed questions that yield accurate answers from respondents.

The AHS is a housing survey and housing is a multi-dimensional good. An individual household's choice of a particular housing unit is a complex decision and may rely on many factors. As such, housing surveys should include content about the structure of the housing unit, the characteristics of the location of the housing unit, and the occupants of the housing unit. To accomplish this goal, the current AHS includes core modules that are used in each survey and rotating topical modules that are used as deemed necessary by HUD.

Through formal discussions with the Census Bureau and through informal discussions with AHS data users, HUD has identified content and question issues that it will explore as part of the redesign process. The following is a list of issues raised concerning the AHS content and questions:

1. Should HUD continue the strategy of core and rotating topical modules?

2. What content should be included in the core modules, considering that housing characteristics change slowly?

3. What topics should HUD consider for rotating topical modules from 2015-2019?

4. What questions should HUD consider reformatting to elicit more accurate responses? For instance, are the questions on utility usage providing accurate information?

5. What questions in the AHS are duplicative with other surveys and should be under consideration for removal from the survey?

6. What data collection modes (web, telephone, face-to-face interviews, administrative data matching) should be used, given the secular decrease in response rates in both face-to-face and telephone surveys? How should questions be formulated differently if we anticipate multimode data collection?

D. AHS Data Dissemination Redesign Issues

AHS data is disseminated in three ways. First, summary statistics tables are created by the Census Bureau and are made available on the web in tabular format. Second, AHS microdata is made available through a public use file (PUF), which is available on the web. Due to the complexity of the PUF, several other PUF resources are made available to assist AHS users. Third, researchers wishing to use aspects of the AHS microdata that cannot be released publicly without risking the privacy of AHS respondents can gain access at one of the Census Research Data Centers with HUD and Census Bureau approval. HUD is interested in knowing how the AHS data might be disseminated differently to add value for the AHS user community and the general public.

1. What geographic identifiers should be disclosed on the PUF, taking into consideration that disclosure policies require that geographic identifiers do not reveal geographic entities with less than 100,000 persons? Prior geographic identifiers include specific metropolitan area name, metropolitan area status, Census Urban Area classifier, State name, County name, and HUD-created sub-metropolitan area zones.

2. Are the national and metropolitan area summary tables useful to AHS data users?

3. In what ways can HUD improve the organization and dissemination of the PUF?

E. Request for Comments

HUD is seeking additional information from the public regarding AHS redesign issues. Governmental policy makers, academic researchers, and other interested parties are encouraged to participate by submitting comments. Official address, contact, and due date for submitting comments are stated above.

Dated: January 23, 2013.
Jean Lin Pao,
General Deputy Assistant Secretary for Policy Development and Research.

[FR Doc. E3-2013-2261 Filed 1-31-13; 8:45 am]

BILLING CODE 4210-62-P